DEPARTMENT OF THE INTERIOR

National Park Service

Acadia National Park; Notice of Intent To Prepare an Environmental Impact Statement for the Schoodic General Management Plan Amendment

SUMMARY: In accordance with the National Environmental Policy Act of 1969 [Pub. L. 91-109 Section 102(c)], the National Park Service is preparing an Environmental Impact Statement (EIS) for the Schoodic General Management Plan Amendment. The purpose of the EIS is to assess the impacts of alternative management strategies that will be described in the general management plan amendment for the Schoodic District of Acadia National Park. The National Park Service is formulating a range of alternatives for natural and cultural resource protection, visitor use and interpretation, facilities development, and operations.

SUPPLEMENTARY INFORMATION: Acadia National Park encompasses 100.1 acres of the former Naval Security Group Activity Winter Harbor at Schoodic Point. The former Navy base contains approximately 40 major buildings totaling 178,000 square feet that include a dormitory, apartment complex, cafeteria, medical clinic, fire station, commissary, gymnasium, child day-care center, maintenance facility, recreational facilities, warehouse, and related utility systems. The original Navy apartment and operations building and its generator house are eligible for the National Register of Historic Places.

Pursuant to Public Laws 80-260 and 107-107, the Department of the Navy transferred its property at Schoodic Point to the NPS on July 1, 2002. The NPS is preparing an amendment to Acadia's 1992 General Management Plan for the 2,366-acre Schoodic District of the park to determine the appropriate range of uses for the former Navy facilities and address effects on the park's resources and visitor experiences at Schoodic. The Schoodic District is zoned a “natural area” in the park's 1992 General Management Plan and is managed to retain its current use levels and opportunities for low-density recreation.

The three alternatives for the reuse of the site include: (1) Multi-partner approach; (2) National Park Service approach; and (3) no action, as required by the National Environmental Policy Act. The multi-partner approach will emphasize the use and occupancy of the site for research and educational purposes by one or more partners. The partners would contribute to the park's research and education efforts and conduct programs that are consistent with its mission. This alternative will also accommodate the uses described under the National Park Service approach. The National Park Service approach will emphasize the park's use of the site for administering the Schoodic District, providing interpretive services to visitors, facilitating park-specific research, offering resident environmental education programs, and housing NPS employees.

Public Scoping

The NPS is seeking feedback from interested parties who wish to express concerns, make suggestions, and raise issues about the future development and management of the Schoodic District of Acadia National Park. You may submit written comments on the general management plan amendment alternatives, scope of the EIS, and related issues to the National Park Service by postal mail, fax, e-mail, or hand delivery. Mail comments to: Superintendent, Acadia National Park, P.O. Box 177, Bar Harbor, Maine 04609. Fax comments to: (207) 288-5507. E-mail comments to: acad_planning@nps.gov. Hand deliver comments during normal business hours to: Acadia National Park Headquarters, McFarland Hill, Rt. 233, Bar Harbor, Maine. Please include your complete name and address along with your comments. If you wish to have your name and address withheld from the public record, you must state so prominently at the beginning of your comments. We will honor your request to the extent allowable by law. Comments must be submitted within 30 calendar days from July 29, 2002.

A draft general management plan amendment and EIS is expected to be completed and available for public review in early fall 2002. After public and agency review of the draft document, the NPS will consider comments and complete a final general management plan amendment and EIS in early 2003, with a Record of Decision to follow.

FOR FURTHER INFORMATION CONTACT: John T. Kelly, Park Planner, at Acadia National Park, P.O. Box 177, Bar Harbor, Maine 04609; telephone: (207) 288-5472; fax: (207) 288-5507; e-mail: john_t_kelly@nps.gov. Additional information about the Schoodic General Management Plan Amendment and EIS is also available on Acadia National Park's Web site at: www.nps.gov/acad/schoodic/intro.htm.

Dated: July 18, 2002.
Paul F. Haertel,
Superintendent, Acadia National Park.

[FR Doc. 02-19096 Filed 7-26-02; 8:45 am]

BILLING CODE 4310-70-P